DEPARTMENT OF ENERGY

Federal Energy Regulatory Commission

[Docket No. EL10-39-000]

SunZia Transmission, LLC; Notice of Filing

February 5, 2010.

Take notice that on January 29, 2010, SunZia Transmission, LLC (SunZia) filed a petition for declaratory order pursuant to Rule 207(a)(2) of the Commission's Rules of Practice and Procedure, 18 CFR 385.207(a)(2) (2009), requesting that the Commission declare that: (i) Each investor in SunZia may be allocated firm transmission rights representing 100% of the sponsor's pro rata investment in the transmission capacity of the SunZia Southwest Transmission Project; (ii) three sponsors of the project, South Western Power Group (SWPG), ECP SunZia, LLC (ECP), and Shell WindEnergy Inc. (SWE), each an owner of membership interest in SunZia, may use up to 100% of their pro rata share of capacity on the project to serve affiliated generators; and (iii) SWPG and ECP SunZia may prescribe up to 100% of their 80% pro rata share of the project transmission capacity through long-term firm negotiated rate contracts.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 19, 2010.

Kimberly D. Bose,
Secretary.

[FR Doc. 2010-3104 Filed 2-18-10; 8:45 am]

BILLING CODE 6717-01-P